DEPARTMENT OF TRANSPORTATION

Federal Railroad Administration

49 CFR Parts 209 and 211

[Docket No. FRA-2009-0006; Notice No. 2]

RIN 2130-AC02

Miscellaneous Revisions to the Procedures for Handling Petitions for Emergency Waiver of Safety Regulations and the Procedures for Disqualifying Individuals From Performing Safety-Sensitive Functions

AGENCY: Federal Railroad Administration (FRA), Department of Transportation (DOT).

ACTION: Direct final rule; confirmation of effective date.

SUMMARY: On May 19, 2009, FRA published a direct final rule in the Federal Register which made miscellaneous revisions to the procedures for obtaining waivers from a safety rule, regulation, or standard during an emergency situation or an emergency event, and the procedures for disqualifying individuals from performing safety-sensitive functions. FRA did not receive any comments or requests for an oral hearing on the direct final rule. Therefore, FRA is issuing this document to confirm that the direct final rule will take effect on July 20, 2009, the date specified in the rule.

DATES: The direct final rule published at 74 FR 23329, May 19, 2009, is confirmed effective on July 20, 2009.

FOR FURTHER INFORMATION CONTACT: Grady C. Cothen, Jr., Deputy Associate Administrator for Safety Standards and Program Development, FRA, 1200 New Jersey Ave., SE., RRS-2, Mail Stop 25, Washington, DC 20590 (Telephone 202-493-6302), or Zeb Schorr, Trial Attorney, Office of Chief Counsel, FRA, 1200 New Jersey Ave., SE., Mail Stop 10, Washington, DC 20590 (Telephone 202-493-6072).

SUPPLEMENTARY INFORMATION: Pursuant to FRA's direct final rulemaking procedures set forth at 49 CFR 211.33, FRA is issuing this document to inform the public that it has not received any comments or requests for an oral hearing on the direct final rule that was published in the Federal Register on May 19, 2009 (74 FR 23329). The direct final rule made miscellaneous revisions to the procedures for obtaining waivers from a safety rule, regulation, or standard during an emergency situation or an emergency event, and the procedures for disqualifying individuals from performing safety-sensitive functions. As no comments or requests for an oral hearing were received by FRA, this document informs the public that the effective date of the direct final rule is July 20, 2009, the date specified in the rule.

Privacy Act Information

Interested parties should be aware that anyone is able to search the electronic form of all comments received into any agency docket by the name of the individual submitting the comment (or signing the comment, if submitted on behalf of an association, business, labor union, etc.). You may review DOT's complete Privacy Act Statement in the Federal Register published on April 11, 2000 (Volume 65, Number 70; Pages 19477-78) or you may visit http://www.regulations.gov.

Issued in Washington, DC, on July 15, 2009.
Karen J. Rae,
Deputy Administrator, Federal Railroad Administration.

[FR Doc. E9-17187 Filed 7-17-09; 8:45 am]

BILLING CODE 4910-06-P